DEPARTMENT OF DEFENSE

Department of the Army

Availability for Non-Exclusive, Exclusive, or Partially Exclusive Licensing of U.S. Patent Application Concerning Plant-Derived Anti-Parasitic and Antifungal Compounds and Methods of Extracting the Compounds

AGENCY: U.S. Army Medical Research and Materiel Command, DoD.

ACTION: Notice.

SUMMARY: In accordance with 37 CFR 404.6, announcement is made of the availability for licensing of U.S. Patent Application No. 09/428,203 entitled “Plant-Derived Anti-parasitic and Antifungal Compounds and Methods of Extracting Compounds” and filed May 24, 2000. This patent application has been assigned to the United States Government as represented by the Secretary of the Army.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664. Both at telefax (301) 619-5034.

SUPPLEMENTARY INFORMATION: Provided are biologically active extracts from Aframomum aulocacarpus, Aframomum danelli, Dracaena arborea, Eupatorium odoratum, Glossocalyz brevipes, and Napoleonaea impereialis, which are suitable for use in treating fungal and protozoa diseases.

Luz D. Ortiz,
Army Federal Register Liaison Officer.

[FR Doc. 01-12492 Filed 5-16-01; 8:45 am]

BILLING CODE 3710-08-M